DEPARTMENT OF ENERGY

Federal Energy Regulatory Commission

[Docket No. CP00-233-000]

Southern Natural Gas Company; Notice of Site Visit

July 20, 2000.

On July 31 through August 3, 2000, the staff of the Office of Energy Projects will conduct a precertification site visit with corporate officials of the Southern Natural Gas Company (Southern). The purpose of the site visit is to tour the project area of Southern's proposed South System Expansion Project in Clarke and Lauderdale Counties, Mississippi; Sumter, Dallas, Autagua, Macon, Lee, Tallapoosa, and Macon Counties, Alabama; and Jefferson County, Georgia.

All parties may attend the site visit. Those planning to attend must provide their own transportation. For further information on attending the site visit, please call Mr. Paul McKee of the Commission's External Affairs Office at (202) 208-1088.

David P. Boergers,
Secretary.

[FR Doc. 00-18851 Filed 7-25-00; 8:45 am]

BILLING CODE 6717-01-M